DEPARTMENT OF ENERGY

Federal Energy Regulatory Commission

[Docket No. CP10-40-000]

BCR Holdings, Inc.; Notice of Application

January 25, 2010.

Take notice that on January 8, 2010, BCR Holdings, Inc (BCR), 820 Gessner, Suite 1680, Houston, TX 77024, filed with the Commission an application, pursuant to section 7(c) of the Natural Gas Act, and Subpart F of Part 157, and Subpart G of Part 284 of the Commission's Regulations for: (1) A certificate of public convenience and necessity in Docket No. CP10-40-000 authorizing BCR to construct and operate a natural gas storage facility and pipeline facilities connecting with Texas Eastern Transmission Corporation (TETCO), Gulf South Pipeline Co. LP (Gulf South), Discovery Gas Transmission LLC (Discovery), and Bridgeline Holdings, LP (Bridgeline) in Lafourche Parish, Louisiana; (2) a blanket certificate in authorizing BCR to construct, acquire, operate and abandon facilities; and (3) a blanket certificate in authorizing BCR to provide open-access firm and interruptible interstate natural gas storage and storage related services and the associated pre-granted abandonment authorization, as more fully set forth in the application which is open to public inspection. This filing may be also viewed on the Web at http://www.ferc.gov using the “eLibrary” link. Enter the docket number excluding the last three digits in the docket number field to access the document. For assistance, please contact FERCOnline Support at FERCOnlineSupport@ferc.gov or toll free at (866) 208-3676, or TTY, contact (202) 502-8659.

BCR proposes to construct, own, operate, and maintain a natural gas storage facility on and near the Bully Camp salt dome in Lafourche Parish, Louisiana. BCR states that it would construct and operate approximately 4.7 miles of 20-inch diameter pipeline connecting with TETCO, approximately 0.4 mile of 10-inch diameter pipeline connecting with Gulf South, approximately 0.3 mile of 20-inch diameter pipe connecting to Discovery and approximately 0.7 mile of 16-inch diameter pipe connecting to Bridgeline. BCR also states that it would construct and operate a compressor station with a total of 18,940 HP. BCR further states that the underground salt cavern storage facility would consist of two caverns with a total working gas capacity of 15 Billion cubic feet (Bcf) and total cushion gas capacity of 8.6 Bcf. The maximum daily injection and withdrawal capabilities would be approximately 830 MMcf and approximately 1,200 MMcf respectively. BCR seeks authorization to charge market-based rates for its proposed services.

Copies of this filing is available for review at the Commission in the Public Reference Room or may be viewed on the Commission's Web site at http://www.ferc.gov using the “eLibrary” link. Enter the docket number excluding the last three digits in the docket number field to access the document. For assistance, contact FERC at FERCOnlineSupport@ferc.gov or call toll-free, (886) 208-3676 or TTY, (202) 502-8659.

Any questions regarding this application should be directed to Thomas W. Cook, 805 East Union Street, Broken Arrow, OK 74011, via telephone at (918) 449-0333, or e-mail twcook@cox.net; or to John R. Staffier, Stuntz, Davis & Staffier, P.C., 555 Twelfth Street, NW., Suite 630, Washington, DC 20004, or via telephone at (202) 638-6588, or e-mail jstaffier@sdsatty.com.

There are two ways to become involved in the Commission's review of this project. First, any person wishing to obtain legal status by becoming a party to the proceedings for this project should, before the comment date of this notice, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents Docket No. CP09-439-000 filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest. Comments, protests and interventions may be filed electronically via the Internet in lieu of paper. See, 18 CFR 385.2001(a)(1)(iii) and the instructions on the Commission's Web site under the “e-Filing” link.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

The Commission strongly encourages electronic filings of comments, protests, and interventions via the Internet in lieu of paper. See 18 CFR 385.2001(a)(1)(iii) and the instructions on the Commission's Web site (http://www.ferc.gov) under the “e-Filing” link. Persons unable to file electronically should submit an original and 14 copies of the protest or intervention to the Federal Energy regulatory Commission, 888 First Street, NE., Washington, DC 20426.

Comment Date: 5 p.m. Eastern Time on February 15, 2010.

Kimberly D. Bose,
Secretary.

[FR Doc. 2010-1972 Filed 1-29-10; 8:45 am]

BILLING CODE 6717-01-P